DEPARTMENT OF THE INTERIOR

Bureau of Ocean Energy Management

[OMB Number 1010-0081]

Information Collection: Operations in the Outer Continental Shelf for Minerals Other Than Oil, Gas, and Sulphur; Submitted for OMB Review; Comment Request

ACTION: 30-Day notice.

SUMMARY: To comply with the Paperwork Reduction Act of 1995 (PRA), the Bureau of Ocean Energy Management (BOEM) is notifying the public that we have submitted an information collection request (ICR) to the Office of Management and Budget (OMB) for review and approval. The ICR pertains to the paperwork requirements in the regulations under 30 CFRpart 582, Operations in the Outer Continental Shelf for Minerals Other than Oil, Gas, and Sulphur. This notice provides the public a second opportunity to comment on the paperwork burden of this collection.

DATES: Submit written comments by June 13, 2014.

ADDRESSES: Submit comments on this ICR to the Desk Officer for the Department of the Interior at OMB-OIRA at (202) 395-5806 (fax) or OIRA_submission@omb.eop.gov (email). Please provide a copy of your comments to the BOEM Information Collection Clearance Officer, Arlene Bajusz, Bureau of Ocean Energy Management, 381 Elden Street, HM-3127, Herndon, Virginia 20170 (mail) or arlene.bajusz@boem.gov (email). Please reference ICR 1010-0081 in your comment and include your name and return address.

FOR FURTHER INFORMATION CONTACT: Arlene Bajusz, Office of Policy, Regulations, and Analysis at arlene.bajusz@boem.gov (email) or (703) 787-1025 (phone). You may review the ICR online at http://www.reginfo.gov. Follow the instructions to review Department of the Interior collections under review by OMB.

SUPPLEMENTARY INFORMATION: OMB Control Number: 1010-0081.

Title: 30 CFR 582, Operations in the Outer Continental Shelf for Minerals Other than Oil, Gas, and Sulphur.

Abstract: The Outer Continental Shelf (OCS) Lands Act, as amended (43 U.S.C. 1334 and 43 U.S.C. 1337(k)), authorizes the Secretary of the Interior to implement regulations to grant to the qualified persons, offering the highest cash bonus on a basis of competitive bidding, leases of any mineral other than oil, gas, and sulphur. This applies to any area of the OCS not then under lease for such mineral. These regulations govern mining operations within the OCS for minerals other than oil, gas and sulphur and establishes a comprehensive leasing and regulatory program for such minerals. These regulations have been designed to (1) recognize the differences between the OCS activities associated with oil, gas, and sulphur discovery and development and those associated with the discovery and development of other minerals; (2) facilitate participation by States directly affected by OCS mining activities; (3) provide opportunities for consultation and coordination with other OCS users and uses; (4) balance development with environmental protection; (5) ensure a fair return to the public; and (6) preserve and maintain free enterprise competition.

Regulations at 30 CFR part 582 implement these statutory requirements. There has been no activity in the OCS for minerals other than oil, gas and sulphur for many years; however, because these are regulatory requirements, the potential exists for information to be collected. Therefore, we are renewing OMB approval for this information collection.

We will use the information required by 30 CFR part 582 to determine if lessees are complying with the regulations that implement the mining operations program for minerals other than oil, gas, and sulphur. BOEM will also use the information to ensure that such operations are conducted in a manner that will result in orderly resource recovery, development, and the protection of the human, marine, and coastal environments and for technical and environmental evaluations that assist BOEM in making informed decisions to approve, disapprove, or require modification of the proposed activities.

We protect proprietary information according to the Freedom of Information Act (5 U.S.C. 552) and its implementing regulations (43 CFR 2), and 30 CFR 582.5, 582.6, and applicable sections of 30 CFR parts 580 and 581. No items of a sensitive nature are collected. Responses are mandatory.

Frequency: Monthly; quarterly; on occasion.

Estimated Number and Description of Respondents: As there are no active respondents, we estimated the potential annual number of respondents to be one. Potential respondents are OCS lessees.

Estimated Reporting and Recordkeeping Hour Burden: We expect the burden estimate for the renewal will be 212 hours. This submission also removes the requirements and burdens that were transferred to the responsibility of the Bureau of Safety and Environmental Enforcement under Secretarial Order No. 3299, May 19, 2010. The following table details the individual BOEM components and respective hour burden estimates of this ICR. In calculating the burdens, we assumed that respondents perform certain requirements in the normal course of their activities. We consider these to be usual and customary and took that into account in estimating the burden.

Burden Table
Citation 30 CFR 582 | Reporting or recordkeeping requirement | Hour burden | Average number of annual responses | Annual burden hours
Subpart A—General
4; 21(b) | Governors, other Federal/State agencies, lessees, interested parties, and others review and provide comments/recommendations on all plans and environmental information | 10 | 1 | 10
4(b); 12(b)(2); 21; 22; 25; 26; 28 | Submit delineation plan, including environmental information, contingency plan, monitoring program, and various requests for approval referred to throughout; submit modifications and required information | 40 | 1 | 40
4(c); 12(c)(2); 21; 23; 25; 26; 28 | Submit testing plan, including environmental information, contingency plan, monitoring program, and various requests for approval referred to throughout; submit modifications and required information | 40 | 1 | 40
4(d); 12(d)(2); 21; 24; 25; 26; 28 | Submit mining plan, including environmental information, contingency plan, monitoring program, and various requests for approval referred to throughout; submit modifications and required information | 40 | 1 | 40
5 | Request non-disclosure of G&G info.; provide consent; demonstrate loss of competitive position | 10 | 1 | 10
6 | Governors of adjacent States request proprietary data, samples, etc., and disclosure agreement with BOEM | 10 | 1 | 10
7 | Governor of affected State initiates negotiations on jurisdictional controversy, etc., and enters agreement with BOEM | 10 | 1 | 10
Subtotal |  |  | 7 | 160
Subpart B—Jurisdiction and Responsibilities of Director
11(c); 20(h); 30 | Apply for right-of-use and easement; submit confirmations, demonstrations, notifications | 30 | 1 | 30
11(d); | Request consolidation/splitting of two or more OCS mineral leases or portions | 1 | 1 | 1
20(h) | Request approval of operations or departure from operating requirements | Burden included with applicable plans. |  | 0
14 | Submit response (BOEM-1832) indicating date violations (INCs) corrected | 2 | 1 | 2
Subtotal |  |  | 3 | 33
Subpart C—Obligations and Responsibilities of Lessees
20(a), (g); 29(i) | Make available all mineral resource or environmental data and information; submit reports and maintain records, as specified | Burden included with individual reporting requirements below. |  | 0
20(b) thru (e) | Submit designation of payor, operator, or local representative; submit changes, terminations, notifications | 1 | 1 | 1
21(d) | Notify BOEM of preliminary activities | 1 | 1 | 1
29(a) | Submit monthly report of minerals produced; request extension | 1 | 1 | 1
29(b), (c) | Submit quarterly status and final report on exploration and/or testing activities | 5 | 1 | 5
29(d) | Submit results of environmental monitoring activities | 5 | 1 | 5
29(e) | Submit marked and certified maps annually or as required | 1 | 1 | 1
29(f) | Maintain rock, minerals, and core samples for 5 years and make available upon request | 1 | 1 | 1
29(g) | Maintain original data and information and navigation tapes as long as lease is in effect and make available upon request | 1 | 1 | 1
29(h) | Maintain hard mineral records and make available upon request | 1 | 1 | 1
Subtotal |  |  | 9 | 17
Subpart D—Payments
40 | Submit surety, personal bond, or approved alternative | 2 | 1 | 2
Subpart E—Appeals
50; 15 | File an appeal | Burden exempt under 5 CFR 1320.4(a)(2), (c). |  | 0
TOTAL BURDEN |  |  | 20 | 212

Estimated Reporting and Recordkeeping Non-Hour Cost Burden: There are no non-hour cost burdens associated with this collection.

Public Disclosure Statement: The PRA (44 U.S.C. 3501, et seq.) provides that an agency may not conduct or sponsor a collection of information unless it displays a currently valid OMB control number. Until OMB approves a collection of information, you are not obligated to respond.

Comments: We invite comments concerning this information collection on:

• Whether or not the collection of information is necessary, including whether or not the information will have practical utility;

• The accuracy of our burden estimates;

• Ways to enhance the quality, utility, and clarity of the information to be collected; and

• Ways to minimize the burden on respondents.

To comply with the public consultation process, on February 26, 2014, BOEM published a Federal Register notice (79 FR 10838) announcing that we would submit this ICR to OMB for approval. This notice provided the required 60-day comment period. We received no comments.

Public Availability of Comments: Before including your address, phone number, email address, or other personal identifying information in your comment, you should be aware that your entire comment—including your personal identifying information—may be made publicly available at any time. While you can ask us in your comment to withhold your personal identifying information from public review, we cannot guarantee that we will be able to do so.

Dated: May 6, 2014.
Deanna Meyer-Pietruszka,
Chief, Office of Policy, Regulations, and Analysis.

[FR Doc. 2014-11093 Filed 5-13-14; 8:45 am]

BILLING CODE 4810-MR-P